NATIONAL SCIENCE FOUNDATION

Public Affairs Advisory Group; Notice of Meeting

In accordance with the Federal Advisory Committee Act (Pub. L. 92-463, as amended), the National Science Foundation announces the following meeting:

Name: Public Affairs Advisory Group (5292).

Date/Time: April 2, 2000; 6:00 p.m.—9:00 p.m.

Place: 2132 Florida Avenue, NW, Washington, DC 20008.

Type of Meeting: Open.

Contact Person: Mr. Michael Sieverts, Acting Director, Office of Legislative and Public Affairs, Room 1245, National Science Foundation, 4201 Wilson Boulevard, Arlington, VA 22230. (703) 306-1070.

Purpose of Meeting: To provide advice and recommendations concerning NSF science and engineering outreach activities.

Agenda: Review of Outreach Programs and Initiatives; Strategic Planning for 2000 and Beyond.

Meeting Minutes: May be obtained from the contact person listed above.

Dated: March 16, 2000.
Karen J. York,
Committee Management Officer.

[FR Doc. 00-6935 Filed 3-20-00; 8:45 am]

BILLING CODE 7555-01-M